NATIONAL SCIENCE FOUNDATION

Advisory Committee for Cyberinfrastructure; Notice of Meeting

In accordance with the Federal Advisory Committee Act (Pub. L. 92-463, as amended), the National Science Foundation (NSF) announces the following meeting:

Name and Committee Code: Advisory Committee for Cyberinfrastructure (25150).

Date and Time: June 6, 2018, 10:00 a.m.-6:00 p.m.

Place: National Science Foundation, 2415 Eisenhower Avenue, Alexandria, VA 22314. Virtual Meeting Only, registration available at: https://www.nsf.gov/events/event_summ.jsp?cntn_id=245384&org=OAC.

Type of Meeting: Open.

Contact Person: Alejandro Suarez or Cynthia Jackson, CISE, Office of Advanced Cyberinfrastructure, National Science Foundation, 2415 Eisenhower Avenue, Alexandria, VA 22314; Telephone: 703-292-8970. Please contact for virtual meeting access information.

Minutes: May be obtained from the contact persons listed above.

Purpose of Meeting: To advise NSF on the impact of its policies, programs and activities in the OAC community. To provide advice to the Director/NSF on issues related to long-range planning.

Agenda: Updates on NSF wide OAC activities.

Dated: May 7, 2018.
Crystal Robinson,
Committee Management Officer.

[FR Doc. 2018-09962 Filed 5-9-18; 8:45 am]

BILLING CODE 7555-01-P